DEPARTMENT OF COMMERCE

Foreign-Trade Zones Board

[Docket 30-2011]

Foreign-Trade Zone 141—Rochester, NY, Application for Manufacturing Authority, Firth Rixson, Inc. d/b/a Firth Rixson Monroe, Comment Period on New Evidence

On April 29, 2011, an application was submitted by Monroe County, New York, grantee of FTZ 141, requesting authority on behalf of Firth Rixson, Inc. d/b/a Firth Rixson Monroe (Firth Rixson) to manufacture aircraft turbine components under FTZ procedures within FTZ 141 (76 FR 25300-25301, 5-4-2011). Currently, the FTZ Board is inviting public comment on new evidence submitted by Firth Rixson on June 19, 2012, on which there has not been an opportunity for public comment.

The comment period on the new evidence is open through August 24, 2012. Submissions shall be addressed to the Board's Executive Secretary at the following address: Office of the Executive Secretary, Room 2111, U.S. Department of Commerce, 1401 Constitution Avenue NW., Washington, DC 20230-0002.

For further information, contact Pierre Duy at Pierre.Duy@trade.gov or (202) 482-1378.

Dated: July 19, 2012.
Andrew McGilvray,
Executive Secretary.

[FR Doc. 2012-18148 Filed 7-24-12; 8:45 am]

BILLING CODE P